DEPARTMENT OF LABOR

Occupational Safety and Health Administration

[Docket No. OSHA-2007-0043]

TUV America, Inc.; Expansion of Recognition

AGENCY: Occupational Safety and Health Administration (OSHA), Labor.

ACTION: Notice.

SUMMARY: This notice announces the Occupational Safety and Health Administration's final decision expanding the recognition of TUV America, Inc., (TUVAM) as a Nationally Recognized Testing Laboratory under 29 CFR 1910.7.

DATES: The expansion of recognition becomes effective on August 29, 2008.

FOR FURTHER INFORMATION CONTACT: MaryAnn Garrahan, Director, Office of Technical Programs and Coordination Activities, NRTL Program, Occupational Safety and Health Administration, U.S. Department of Labor, 200 Constitution Avenue, NW., Room N-3655, Washington, DC 20210, or phone (202) 693-2110.

SUPPLEMENTARY INFORMATION:

Notice of Final Decision

The Occupational Safety and Health Administration (OSHA) hereby gives notice that it is expanding recognition of TUV America, Inc., (TUVAM) as a Nationally Recognized Testing Laboratory (NRTL). TUVAM's expansion covers the use of additional test standards. OSHA's current scope of recognition for TUVAM may be found in the following informational Web page: http://www.osha.gov/dts/otpca/nrtl/tuvam.html.

OSHA recognition of an NRTL signifies that the organization has met the legal requirements in Section 1910.7 of Title 29, Code of Federal Regulations (29 CFR 1910.7). Recognition is an acknowledgment that the organization can perform independent safety testing and certification of the specific products covered within its scope of recognition and is not a delegation or grant of government authority. As a result of recognition, employers may use products approved by the NRTL to meet OSHA standards that require testing and certification.

The Agency processes applications by an NRTL for initial recognition or for expansion or renewal of this recognition following requirements in Appendix A to 29 CFR 1910.7. This appendix requires that the Agency publish two notices in the Federal Register in processing an application. In the first notice, OSHA announces the application and provides its preliminary finding and, in the second notice, the Agency provides its final decision on the application. These notices set forth the NRTL's scope of recognition or modifications of that scope. OSHA maintains an informational Web page for each NRTL that details its scope of recognition. These pages can be accessed from the Web site at http://www.osha.gov/dts/otpca/nrtl/index.html.

In an earlier action involving TUVAM, OSHA issued a Federal Register notice modifying its recognition, along with the recognition of other NRTLs, by replacing or deleting test standards that standards-developing organizations previously revised or withdrew (70 FR 11273, March 8, 2005). In a subsequent Federal Register notice, OSHA granted TUVAM's most recent application, which was for an expansion of recognition (70 FR 51373, August 30, 2005).

TUVAM submitted an application, dated October 6, 2005 (see Exhibit 11-1, as cited in the preliminary notice), to expand its recognition to include 142 additional test standards. It amended its application on February 17, 2006, to add two more test standards, and then in June 2006 and July 2007 further amended its application to reduce its request to 89 test standards (see Exhibits 11-2 through 11-4). One standard, however, has been withdrawn by the standards-developing organization. Thus, TUVAM's request includes 88 standards. The NRTL Program staff has determined that the remaining 88 standards are “appropriate test standards” within the meaning of 29 CFR 1910.7(c). In connection with this request, OSHA staff performed an on-site review of TUVAM's Massachusetts testing facility and recommended that TUVAM's recognition be expanded to include the additional 88 test standards listed below (see Exhibit 11-5).

Based on the review, OSHA published a preliminary notice announcing the expansion application in the Federal Register on February 7, 2008 (73 FR 7325). Comments were requested by February 22, 2008, but no comments were received in response to this notice. OSHA is now proceeding with this final notice to grant TUVAM's expansion application.

You may obtain or review copies of all public documents pertaining to the TUVAM application by contacting the Docket Office, Occupational Safety and Health Administration, U.S. Department of Labor, 200 Constitution Avenue, NW., Room N-2625, Washington, DC 20210. Docket No. OSHA-2007-0043 (formerly NRTL2-2001) contains all materials in the record concerning TUVAM's recognition.

The current addresses of the TUVAM's facilities (sites) already recognized by OSHA are: TUV Product Services (TUVAM), 5 Cherry Hill Drive, Danvers, MA 01923; TUV Product Services (TUVAM), 10040 Mesa Rim Road, San Diego, CA 92121; and TUV Product Services (TUVAM), 1775 Old Highway 8 NW, Suite 104, New Brighton (Minneapolis), MN 55112.

Final Decision and Order

NRTL Program staff examined the TUVAM's application, the assessor's recommendation, and other pertinent information. Based upon this examination and the assessor's recommendation, OSHA finds that TUVAM has met the requirements of 29 CFR 1910.7 for expansion of its recognition, subject to the limitation and conditions listed below. Pursuant to the authority in 29 CFR 1910.7, OSHA hereby expands the recognition of TUVAM, subject to this limitation and these conditions.

Limitation

OSHA limits the expansion of TUVAM's recognition to testing and certification of products for demonstration of conformance to the following test standards, each of which OSHA has determined is an appropriate test standard, within the meaning of 29 CFR 1910.7(c):

UL 48 Electric Signs

UL 69 Electric-Fence Controllers

UL 82 Electric Gardening Appliances

UL 201 Garage Equipment

UL 325 Door, Drapery, Gate, Louver, and Window Operators and Systems

UL 399 Drinking-Water Coolers

UL 474 Dehumidifiers

UL 482 Portable Sun/Heat Lamps

UL 497A Secondary Protectors for Communication Circuits

UL 506 Specialty Transformers

UL 561 Floor-Finishing Machines

UL 563 Ice Makers

UL 588 Seasonal and Holiday Decorative Products

UL 676 Underwater Luminaires and Submersible Junction Boxes

UL 696 Electric Toys

UL 697 Toy Transformers

UL 745-1 Portable Electric Tools

UL 745-2-1 Particular Requirements for Drills

UL 745-2-2 Particular Requirements for Screwdrivers and Impact Wrenches

UL 745-2-3 Particular Requirements for Grinders, Polishers, and Disk-Type Sanders

UL 745-2-4 Particular Requirements for Sanders

UL 745-2-5 Particular Requirements for Circular Saws and Circular Knives

UL 745-2-6 Particular Requirements for Hammers

UL 745-2-8 Particular Requirements for Shears and Nibblers

UL 745-2-9 Particular Requirements for Tappers

UL 745-2-11 Particular Requirements for Reciprocating Saws

UL 745-2-12 Particular Requirements for Concrete Vibrators

UL 745-2-14 Particular Requirements for Planers

UL 745-2-17 Particular Requirements for Routers and Trimmers

UL 745-2-30 Particular Requirements for Staplers

UL 745-2-31 Particular Requirements for Diamond Core Drills

UL 745-2-32 Particular Requirements for Magnetic Drill Presses

UL 745-2-33 Particular Requirements for Portable Bandsaws

UL 745-2-34 Particular Requirements for Strapping Tools

UL 745-2-35 Particular Requirements for Drain Cleaners

UL 745-2-36 Particular Requirements for Hand Motor Tools

UL 745-2-37 Particular Requirements for Plate Jointers

UL 749 Household Dishwashers

UL 775 Graphic Arts Equipment

UL 778 Motor-Operated Water Pumps

UL 826 Household Electric Clocks

UL 858 Household Electric Ranges

UL 859 Household Electric Personal Grooming Appliances

UL 867 Electrostatic Air Cleaners

UL 875 Electric Dry-Bath Heaters

UL 921 Commercial Dishwashers

UL 935 Fluorescent-Lamp Ballasts

UL 969 Marking and Labeling Systems

UL 977 Fused Power-Circuit Devices

UL 979 Water Treatment Appliances

UL 984 Hermetic Refrigerant Motor-Compressors

UL 987 Stationary and Fixed Electric Tools

UL 1018 Electric Aquarium Equipment

UL 1028 Hair Clipping and Shaving Appliances

UL 1030 Sheathed Heating Elements

UL 1086 Household Trash Compactors

UL 1088 Temporary Lighting Strings

UL 1097 Double Insulation Systems for Use in Electrical Equipment

UL 1206 Electric Commercial Clothes-Washing Equipment

UL 1230 Amateur Movie Lights

UL 1240 Electric Commercial Clothes-Drying Equipment

UL 1411 Transformers and Motor Transformers for Use In Audio-, Radio-, and Television-Type Appliances

UL 1419 Professional Video and Audio Equipment

UL 1431 Personal Hygiene and Health Care Appliances

UL 1449 Surge Protective Devices

UL 1484 Residential Gas Detectors

UL 1559 Insect-Control Equipment—Electrocution Type

UL 1561 Dry-Type General Purpose and Power Transformers

UL 1563 Electric Spas, Equipment Assemblies, and Associated Equipment

UL 1573 Stage and Studio Luminaires and Connector Strips

UL 1574 Track Lighting Systems

UL 1594 Sewing and Cutting Machines

UL 1598 Luminaires

UL 1741 Inverters, Converters, Controllers and Interconnection System Equipment for Use With Distributed Energy Resources

UL 1778 Uninterruptible Power Supply Equipment

UL 1786 Direct Plug-In Nightlights

UL 1838 Low Voltage Landscape Lighting Systems

UL 1963 Refrigerant Recovery/Recycling Equipment

UL 1993 Self-Ballasted Lamps and Lamp Adapters

UL 2044 Commercial Closed-Circuit Television Equipment

UL 2111 Overheating Protection for Motors

UL 2157 Electric Clothes Washing Machines and Extractors

UL 2158 Electric Clothes Dryers

UL 60335-2-3 Household and Similar Electrical Appliances, Part 2: Particular Requirements for Electric Irons

UL 60745-1 Hand-Held Motor-Operated Electric Tools—Safety—Part 1: General Requirements

UL 61010A-2-020 Electrical Equipment for Laboratory Use; Part 2: Particular Requirements for Laboratory Centrifuges

UL 61010A-2-061 Electrical Equipment for Laboratory Use; Part 2: Particular Requirements for Laboratory Atomic Spectrometers with Thermal Atomization and Ionization

UL 61010B-2-031 Electrical Equipment for Measurement, Control, and Laboratory Use; Part 2: Particular Requirements for Hand-Held Probe Assemblies for Electrical Measurement and Test

The designations and titles of the above test standards were current at the time of the preparation of this notice.

OSHA's recognition of TUVAM, or any NRTL, for a particular test standard is limited to equipment or materials (i.e., products) for which OSHA standards require third-party testing and certification before use in the workplace. Consequently, if a test standard also covers any product(s) for which OSHA does not require such testing and certification, an NRTL's scope of recognition does not include that product(s).

Test standards listed above may be approved as an American National Standard by the American National Standards Institute (ANSI). However, for convenience, we use the designation of the standards-developing organization for the standard as opposed to the ANSI designation. Under our procedures, any NRTL recognized for an ANSI-approved test standard may use either the latest proprietary version of the test standard or the latest ANSI version of that standard. You may contact ANSI to find out whether a test standard is currently ANSI-approved.

Conditions

TUVAM must also abide by the following conditions of the recognition, in addition to those conditions already required by 29 CFR 1910.7:

OSHA must be allowed access to TUVAM's facilities and records to ascertain continuing compliance with the terms of its recognition and to perform investigations as OSHA deems necessary;

If TUVAM has reason to doubt the efficacy of any test standard it is using under this program, it must promptly inform the test standard developing organization of this concern and provide that organization with appropriate relevant information upon which its concern is based;

TUVAM must not engage in, or permit others to engage in, any misrepresentation of the scope or conditions of its recognition. As part of this condition, TUVAM agrees that it will allow no representation that it is either a recognized or an accredited Nationally Recognized Testing Laboratory (NRTL) without clearly indicating the specific equipment or material to which this recognition applies, and also clearly indicating that its recognition is limited to certain products;

TUVAM must inform OSHA as soon as possible, in writing, of any change of ownership, facilities, or key personnel, and of any major changes in its operations as an NRTL, including details of these changes;

TUVAM will meet all the terms of its recognition and will always comply with all OSHA policies pertaining to this recognition; and

TUVAM will continue to meet the requirements for recognition in all areas where it has been recognized.

Signed at Washington, DC, this 22nd day of August, 2008.
Edwin G. Foulke, Jr.,
Assistant Secretary of Labor for Occupational Safety and Health.

[FR Doc. E8-20169 Filed 8-28-08; 8:45 am]

BILLING CODE 4510-26-P